OFFICE OF PERSONNEL MANAGEMENT

Excepted Service

AGENCY: Office of Personnel Management.

ACTION: Notice.

SUMMARY: This gives notice of OPM decisions granting authority to make appointments under Schedules A, B and C in the excepted service as required by 5 CFR 6.6 and 213.103.

FOR FURTHER INFORMATION CONTACT: Quasette Crowner, Chief, Executive Resources Group, Center for Leadership and Executive Resources Policy, Division for Strategic Human Resources Policy, 202-606-8046.

SUPPLEMENTARY INFORMATION: Appearing in the listing below are the individual authorities established under Schedules A, B and C between June 1, 2005 and June 30, 2005. Future notices will be published on the fourth Tuesday of each month, or as soon as possible thereafter. A consolidated listing of all authorities as of June 30 is published each year.

Schedule A

No Schedule A appointments were approved for June 2005.

Schedule B

No Schedule B appointments were approved for June 2005.

Schedule C

The following Schedule C appointments were approved during June 2005:

Section 213.3303 Executive Office of the President

Office of Management and Budget

BOGS60030 Confidential Assistant to the Deputy Director, Office of Management and Budget. Effective June 15, 2005.

Office of National Drug Control Policy

QQGS00087 Special Assistant to the Special Assistant to the Director. Effective June 22, 2005.

Office of the United States Trade Representative

TNGS00017 Director of Chief Operations to the United States Trade Representative. Effective June 13, 2005.

Section 213.3304 Department of State

DSGS60954 Special Assistant to the Chief of Protocol. Effective June 07, 2005.

DSGS60964 Legislative Management Officer to the Assistant Secretary for Legislative and Intergovernmental Affairs. Effective June 13, 2005.

DSGS60966 Staff Assistant to the Assistant Secretary for Public Affairs. Effective June 23, 2005.

DSGS60968 Special Assistant to the Assistant Secretary for Public Affairs. Effective June 23, 2005.

DSGS60969 Foreign Affairs Officer to the Assistant Secretary for East Asian and Pacific Affairs. Effective June 23, 2005.

DSGS60970 Special Assistant to the Assistant Secretary for Public Affairs. Effective June 23, 2005.

DSGS60971 Public Affairs Specialist to the Assistant Secretary for Public Affairs. Effective June 23, 2005.

Section 213.3305 Department of the Treasury

DYGS00458 Special Assistant to the Treasurer of the United States. Effective June 03, 2005.

Section 213.3306 Department of Defense

DDGS16883 Staff Assistant to the Special Assistant for Business Transformation. Effective June 22, 2005.

DDGS16880 Staff Assistant to the Deputy Assistant Secretary of Defense (Resources and Plans). Effective June 28, 2005.

DDGS16884 Staff Assistant to the Special Assistant to the Secretary of Defense for White House Liaison. Effective June 28, 2005.

Section 213.3310 Department of Justice

DJGS00058 Chief of Staff to the Assistant Attorney General for Justice Programs. Effective June 03, 2005.

DJGS00019 Special Assistant to the Chairman, Foreign Claims Settlement Commission. Effective June 06, 2005.

DJGS00184 Special Assistant to the Deputy Attorney General. Effective June 06, 2005.

DJGS00063 Project Safe Neighborhoods Coordinator to the Deputy Attorney General. Effective June 10, 2005.

DJGS00390 Counsel to the Assistant Attorney General (Legal Counsel). Effective June 10, 2005.

DJGS00233 Counsel to the Assistant Attorney General, Civil Division. Effective June 21, 2005.

Section 213.3311 Department of Homeland Security

DMGS00373 Deputy White House Liaison to the White House Liaison. Effective June 02, 2005.

DMGS00372 Protocol Coordinator to the Director of Scheduling and Advance. Effective June 06, 2005.

DMGS00362 Policy Assistant to the Chief of Staff. Effective June 07, 2005.

DMGS00371 Confidential Assistant to the Counselors to the Chief of Staff. Effective June 07, 2005.

DMGS00370 Senior Communications Advisor to the Assistant Secretary for Public Affairs. Effective June 10, 2005.

DMGS00377 Assistant Director of Legislative Affairs for Miscellaneous Offices to the Director of Legislative Affairs for Secretarial Offices. Effective June 22, 2005.

DMGS00375 Coordination Officer for State and Territorial Affairs to the Director, State and Local Affairs. Effective June 24, 2005.

DMGS00376 Special Assistant to the Special Assistant for Science and Technology Policy Planning. Effective June 24, 2005.

DMGS00378 Confidential Assistant to the General Counsel. Effective June 28, 2005.

Section 213.3312 Department of the Interior

DIGS61039 Special Assistant to the Executive Director, Take Pride in America. Effective June 29, 2005.

Section 213.3313 Department of Agriculture

DAGS00796 Congressional Liaison to the Deputy Assistant Secretary for Congressional Relations. Effective June 02, 2005.

DAGS00798 Confidential Assistant to the Administrator, Rural Housing Service. Effective June 10, 2005.

DAGS00799 Speech Writer to the Director of Communications. Effective June 16, 2005.

DAGS00801 Staff Assistant to the Secretary. Effective June 22, 2005.

DAGS00806 Deputy Director of Advance to the Director of Communications. Effective June 22, 2005.

DAGS00802 Staff Assistant to the Chief, Natural Research Conservation Service. Effective June 23, 2005.

DAGS00803 Director, Intergovernmental Affairs to the Deputy Assistant Secretary. Effective June 23, 2005.

DAGS00804 Deputy Press Secretary to the Director of Communications. Effective June 27, 2005.

DAGS00805 Director of Speechwriter to the Director of Communications. Effective June 24, 2005.

DAGS00807 White House Liaison to the Secretary. Effective June 30, 2005.

Section 213.3314 Department of Commerce

DCGS00692 Director of Congressional Affairs to the Deputy Assistant Secretary for External Affairs and Communication. Effective June 07, 2005.

DCGS60548 Confidential Assistant to the Chief of Staff. Effective June 07, 2005.

DCGS60287 Confidential Assistant to the Chief of Staff to the Deputy Secretary. Effective June 14, 2005.

DCGS60670 Director, Office of Business Liaison to the Chief of Staff for National Oceanic and Atmospheric Administration. Effective June 22, 2005.

Section 213.3315 Department of Labor

DLGS60183 Special Assistant to the Assistant Secretary for Occupational Safety and Health. Effective June 14, 2005.

DLGS60231 Staff Assistant to the Counselor in the Office of the Secretary. Effective June 22, 2005.

DLGS60093 Staff Assistant to the Secretary of Labor. Effective June 23, 2005.

DLGS60117 Senior Advisor to the Assistant Secretary for Employment Standards. Effective June 23, 2005.

Section 213.331 Department of Health and Human Services

DHGS60016 Confidential Assistant to the Director, Center for Faith Based and Community Initiatives. Effective June 10, 2005.

DHGS60021 Special Assistant to the Director, Office of Community Services. Effective June 10, 2005.

DHGS60243 Regional Director, Atlanta, Georgia, Region IV to the Director of Intergovernmental Affairs. Effective June 16, 2005.

DHGS60244 Regional Director, Seattle, Washington, Region X to the Director of Intergovernmental Affairs. Effective June 23, 2005.

DHGS60681 Confidential Assistant to the Director of Media Affairs. Effective June 28, 2005.

Section 213.3317 Department of Education

DBGS00397 Special Assistant to the Chief of Staff. Effective June 02, 2005.

DBGS00400 Deputy Assistant Secretary for Planning to the Chief of Staff. Effective June 03, 2005.

DBGS00398 Confidential Assistant to the Chief of Staff. Effective June 06, 2005.

DBGS00391 Confidential Assistant to the Secretary. Effective June 07, 2005.

DBGS00399 Special Assistant to the Assistant Secretary for Civil Rights. Effective June 10, 2005.

DBGS00402 Confidential Assistant to the Special Advisor to the Secretary. Effective June 10, 2005.

DBGS00403 Confidential Assistant to the Chief of Staff. Effective June 10, 2005.

DBGS00405 Special Assistant to the Assistant Secretary for Special Education and Rehabilitative Services. Effective June 14, 2005.

DBGS00401 Special Assistant to the Assistant Secretary for Elementary and Secondary Education. Effective June 15, 2005.

DBGS00406 Confidential Assistant to the Deputy Director, Office of Public Affairs. Effective June 16, 2005.

DBGS00404 Special Assistant to the Deputy General Counsel for Departmental and Legislative Service. Effective June 20, 2005.

Section 213.3318 Environmental Protection Agency

EPGS05017 Senior Advisor to the Administrator. Effective June 15, 2005.

Section 213.3325 United States Tax Court

JCGS60059 Secretary (Confidential Assistant) to the Chief Judge. Effective June 16, 2005.

Section 213.3327 Department of Veterans Affairs

DVGS60099 Special Assistant to the Assistant Secretary for Public and Intergovernmental Affairs. Effective June 07, 2005.

Section 213.3331 Department of Energy

DEGS00475 Press Secretary to the Director, Public Affairs Effective June 14, 2005.

DEGS00473 Public Affairs Specialist to the Director of Congressional, Intergovernmental and Public Affairs. Effective June 15, 2005.

DEGS00472 Communications Director to the Director, Office of Civilian Radioactive Waste Management. Effective June 16, 2005.

Section 213.3337 General Services Administration

GSGS60069 Events Management Specialist to the Deputy Director for Communications. Effective June 02, 2005.

GSGS00167 Confidential Assistant to the Chief Acquisition Officer. Effective June 06, 2005.

Section 213.3355 Social Security Administration

SZGS00015 Confidential Assistant to the Chief of Staff. Effective June 22, 2005.

Section 213.3360 Consumer Product Safety Commission

PSGS60006 Special Assistant (Legal) to the Chairman, Consumer Product Safety Commission. Effective June 01, 2005.

PSGS60010 Executive Assistant to a Commissioner. Effective June 14, 2005.

PSGS60049 Special Assistant (Legal) to a Commissioner. Effective June 28, 2005.

Section 213.3384 Department of Housing and Urban Development

DUGS60212 Staff Assistant to the Assistant Secretary for Community Planning and Development. Effective June 15, 2005.

DUGS60319 Regional Director to the Assistant Deputy Secretary for Field Policy and Management. Effective June 16, 2005.

DUGS60175 Staff Assistant to the Assistant Secretary for Congressional and Intergovernmental Relations. Effective June 22, 2005.

DUGS60255 Special Assistant to the Assistant Secretary for Policy Development and Research. Effective June 22, 2005.

DUGS60517 Regional Director to the Assistant Deputy Secretary for Field Policy and Management. Effective June 23, 2005.

DUGS60390 Legislative Specialist to the Assistant Secretary for Congressional and Intergovernmental Relations. Effective June 28, 2005.

DUGS60534 Special Assistant to the Assistant Secretary for Public and Indian Housing. Effective June 30, 2005.

DUGS60427 Staff Assistant to the Assistant Secretary for Administration/Chief Human Capital Officer. Effective June 30, 2005.

Section 213.3391 U.S. Office of Personnel Management

PMGS00052 Special Counsel to the General Counsel. Effective June 15, 2005.

Section 213.3394 Department of Transportation

DTGS60173 Director of Congressional Affairs to the Administrator. Effective June 06, 2005.

DTGS60294 Counselor to the Under Secretary. Effective June 10, 2005.

Authority: 5 U.S.C. 3301 and 3302; E.O. 10577, 3 CFR 1954-1958 Comp., P.218

Office of Personnel Management.
Linda M. Springer,
Director.

[FR Doc. 05-14241 Filed 7-20-05; 8:45 am]

BILLING CODE 6325-39-P